DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App., the United States Department of Agriculture announces a meeting of the National Agricultural Research, Extension, Education, and Economics Advisory Board.

SUPPLEMENTARY INFORMATION: The National Agricultural Research, Extension, Education, and Economics Advisory Board, which represents 30 constituent categories, as specified in section 802 of the Federal Agriculture Improvement and Reform Act of 1996 (Pub. L. 104-127), has scheduled a National Agricultural Research, Extension, Education, and Economics Advisory Board Meeting, March 13-15, 2000.

On Monday, March 13, the Advisory Board will sponsor its 4th National Stakeholder Symposium, focusing on the Integrated Authority for Research, Education, and Extension, as announced in Press Release No. 7.99, Secretary of Agriculture, USDA. The Symposium will begin promptly at 9 a.m. and use a panel format as in previous years. Each panelist will be permitted to make a presentation, with time limits to be announced, and will receive questions from the Advisory Board members. If you wish to be considered as a panelist or would like to nominate a panelist, please forward speaker names, phone numbers, and a brief summary, outline, or similar indication of the intended remarks regarding the topic area to the contact person below for Board consideration. Names for panelists will be reviewed and selections will be made by the Advisory Board and its Executive Committee. The general Advisory Board meeting will begin at 9 a.m. on Tuesday, March 14, and continue until approximately noon on Wednesday, March 15. During this time, the Advisory Board will (1) incorporate input of stakeholders for use in recommendations for the FY 2002 priorities and the integrated authority; (2) hear a report on the progress of REE programs and projects with regard to relevance to research priorities and adequacy of funding; (3) hear progress reports on Advisory Board working group activities; (4) conduct a focus session on “Changing Pricing and Marketing Structures in the Food and Fiber System;” (5) discuss plans for a summer regional listening session; (6) and conduct other business as needed.

Dates: March 13 9:00 a.m. to 5:00 p.m. 4th National Stakeholder Symposium; March 14 9:00 a.m. to 5:00 p.m.; March 15 9:00 a.m. to Noon.

Place: Crown Plaza Hotel (Crystal City), Grand Ballroom, 1489 Jefferson Davis Highway, Arlington, VA 22202.

Type of Meeting: Open to the public.

Comments: The public may file written comments before or after the meeting with the contact person. All statements will become a part of the official records of the National Agricultural Research, Extension, Education, and Economics Advisory Board and will be kept on file for public review in the Office of the Advisory Board; Research, Education, and Economics; U.S. Department of Agriculture; Washington, DC 20250-2255.

FOR FURTHER INFORMATION CONTACT: Deborah Hanfman, Executive Director, National Agricultural Research, Extension, Education, and Economics Advisory Board, Research, Education, and Economics Advisory Board Office, Room 344A Jamie L. Whitten Building, U.S. Department of Agriculture, STOP: 2255, 1400 Independence Avenue, SW, Washington, DC 20250-2255. Telephone: 202-720-3684. Fax: 202-720-6199, or e-mail: lshea@reeusda.gov.

Done at Washington, DC this 20th day of January 2000.
I. Miley Gonzalez,
Under Secretary, Research, Education, and Economics.

[FR Doc. 00-2571 Filed 2-3-00; 8:45 am]

BILLING CODE 3410 22 P